DEPARTMENT OF ENERGY

Federal Energy Regulatory Commission

[Docket No. AD21-15-000]

Joint Federal-State Task Force on Electric Transmission; Supplemental Notice of Meeting

As first announced in the Commission's May 23, 2022 Notice ¹ in the above-captioned docket, the next public meeting of the Joint Federal-State Task Force on Electric Transmission (Task Force) will be held on July 20, 2022, at the Sheraton San Diego Hotel and Marina in San Diego, California, from approximately 1:00 p.m. to 5:30 p.m. Pacific time. Commissioners may attend and participate in this meeting. Attached to this Notice is an agenda for the meeting.

¹ Joint Fed.-State Task Force on Elec. Transmission, Notice, Docket No. AD21-15-000 (issued May 23, 2022).

The meeting will be open to the public for listening and observing and on the record. In light of the current Center for Disease Control guidance for San Diego County where community levels are high for the Novel Coronavirus Disease (COVID-19) ² and the Safer Federal Workforce Task Force's requirements, all persons attending the Task Force meeting on July 20 are required to wear masks during the meeting. There is no fee for attendance and registration is not required. This conference will be transcribed. Transcripts will be available for a fee from Ace Reporting, 202-347-3700.

² Ctr. for Disease Control and Prevention, COVID-19 by County (July 14, 2022), https://www.cdc.gov/coronavirus/2019-ncov/your-health/covid-by-county.html.

Discussions at the meeting may involve issues raised in proceedings that are currently pending before the Commission. These proceedings include, but are not limited to:

New York Independent System Operator, Inc | Docket No. ER22-2154-000.
Consolidated Edison Company of New York, Inc | Docket No. ER22-2152-000.
Southwest Power Pool, Inc | Docket No. ER22-1846-000.
WestConnect Public Utilities | Docket No. ER22-1105-000.
Midcontinent Independent System Operator, Inc | Docket No. ER22-995-000.
SOO Green HVDC Link ProjectCo, LLC v. PJM Interconnection, LLC | Docket Nos. EL21-103-000; EL21-85-000.
Neptune Regional Transmission System, LLC and Long Island Power Authority v. PJM Interconnection, L.L.C | Docket No. EL21-39-000.

Commission conferences are accessible under section 508 of the Rehabilitation Act of 1973. For accessibility accommodations, please send an email to accessibility@ferc.gov or call toll free 1-866-208-3372 (voice) or 202-208-8659 (TTY), or send a fax to 202-208-2106 with the required accommodations.

More information about the Task Force, including frequently asked questions, is available here: https://www.ferc.gov/TFSOET. For more information about this meeting, please contact: Gretchen Kershaw, 202-502-8213, gretchen.kershaw@ferc.gov; or Jennifer Murphy, 202-898-1350, jmurphy@naruc.org. For information related to logistics, please contact Benjamin Williams, 202-502-8506, benjamin.williams@ferc.gov; or Rob Thormeyer, 202-502-8694, robert.thormeyer@ferc.gov.

Dated: July 18, 2022.
Debbie-Anne A. Reese,
Deputy Secretary.

[FR Doc. 2022-15718 Filed 7-21-22; 8:45 am]

BILLING CODE 6717-01-P